ENVIRONMENTAL PROTECTION AGENCY

40 CFR PART 52

[EPA-HQ-OAR-2021-0863; EPA-R03-OAR-2023-0179; FRL-12161-01-OAR]

Excess Emissions During Periods of Startup, Shutdown, and Malfunction; Partial Withdrawals of Findings of Failure To Submit State Implementation Plan (SIP)

AGENCY: Environmental Protection Agency (EPA).

ACTION: Proposed action.

SUMMARY: The Environmental Protection Agency (EPA) is proposing to partially withdraw two final actions finding that 13 States and/or local air pollution control agencies failed to submit State Implementation Plan (SIP) revisions required by the Clean Air Act (CAA) in a timely manner to address the EPA's 2015 findings of substantial inadequacy and “SIP calls” for provisions applying to excess emissions during periods of startup, shutdown, and malfunction (SSM). This proposed action would render no longer applicable certain CAA deadlines for the EPA to impose sanctions if a State does not submit a complete SIP revision addressing the outstanding requirements, and to promulgate a Federal Implementation Plan (FIP). Concurrently, the EPA is also taking direct final action on this withdrawal. See the direct final action published in the Rules and Regulations section of this issue of the Federal Register. If we receive no significant adverse comment on this proposed action, we will not take further action on this proposed action.

DATES: Written comments must be received by December 26, 2024.

ADDRESSES: You may send comments, identified by Docket ID Nos. EPA-HQ-OAR-2021-0863 and EPA-R03-OAR-2023-0179, by any of the following methods:

• Federal eRulemaking Portal: https://www.regulations.gov/ (our preferred method). Follow the online instructions for submitting comments.

• Email: a-and-r-Docket@epa.gov. Include Docket ID Nos. EPA-HQ-OAR-2021-0863 and EPA-R03-OAR-2023-0179.

• Fax: (202) 566-9744.

• Mail: U.S. Environmental Protection Agency, EPA Docket Center, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday-Friday (except Federal Holidays).

Instructions: All submissions received must include the Docket ID No. for this rulemaking. Comments received may be posted without change to https://www.regulations.gov, including personal information provided. For detailed instructions on sending comments and additional information on the rulemaking process, see the SUPPLEMENTARY INFORMATION section of this document.

FOR FURTHER INFORMATION CONTACT: General questions concerning this notice should be addressed to, Sydney Lawrence, Office of Air Quality Planning and Standards, Air Quality Policy Division, 109 T.W. Alexander Drive, Research Triangle Park, NC 27711; by telephone (919) 541-4768; or by email at lawrence.sydney@epa.gov.

SUPPLEMENTARY INFORMATION:

I. General Information

A. How is the preamble organized?

The information presented in this preamble is organized as follows:

Table of Contents

I. General Information

A. How is the preamble organized?

B. How can I get copies of this document and other related information?

C. Where do I go if I have specific air agency questions?

II. Why is the EPA issuing this proposed action?

III. Consequences of Partial Withdrawals of Findings of Failure To Submit and Remaining Air Agency Obligations

IV. Statutory and Executive Order Reviews

B. How can I get copies of this document and other related information?

The EPA has established a docket for this action under Docket ID No. EPA-HQ-OAR-2021-0863 (as it pertains to the January 2022 national FFS) and Docket ID No. EPA-R03-OAR-2023-0179 (as it pertains to the April 2023 West Virginia FFS). All documents in the docket are listed in the https://www.regulations.gov index. Although listed in the index, some information is not publicly available, e.g., Confidential Business Information, Proprietary Business Information or other information whose disclosure is restricted by statute. Certain other material, such as copyrighted material, will be publicly available only in hard copy. Publicly available docket materials are available either electronically at https://www.regulations.gov or in hard copy at the U.S. Environmental Protection Agency, EPA Docket Center, William Jefferson Clinton West Building, Room 3334, 1301 Constitution Ave. NW, Washington, DC. The Public Reading Room is open from 8:30 a.m. to 4:30 p.m., Monday through Friday, excluding legal holidays. The telephone number for the Public Reading Room is (202) 566-1744, and the telephone number for the Office of Air and Radiation Docket is (202) 566-1742.

C. Where do I go if I have specific air agency questions?

For questions related to specific air agencies mentioned in this notice, please contact the appropriate EPA Regional office:

EPA regional office | Air agencies
EPA Region 1: Alison Simcox, Air Quality Branch, EPA Region 1, 5 Post Office Square, Boston, Massachusetts 02109. simcox.alison@epa.gov | Rhode Island.
EPA Region 3: Sean Silverman, Planning and Implementation Branch, EPA Region 3, 1650 Arch Street, Philadelphia, Pennsylvania 19103. silverman.sean@epa.gov | District of Columbia.
EPA Region 3: Serena Nichols, Planning and Implementation Bracnh, EPA Region 3, 1650 Arch Street, Philadelphia, Pennsylvania 19103. nichols.serena@epa.gov | West Virginia.
EPA Region 4: Faith Goddard, Air Planning and Implementation Branch, EPA Region 4, 61 Forsyth Street SW, Atlanta, Georgia 30303. goddard.faith@epa.gov | Alabama; North Carolina—Forsyth; Tennessee—Shelby (Memphis).
EPA Region 5: Michael Leslie, Air Planning and Maintenance Section, EPA Region 5, 77 West Jackson Boulevard, Chicago, Illinois 60604. leslie.michael@epa.gov | Illinois; Ohio.
EPA Region 6: Michael Feldman, Air Program Branch, EPA Region 6, 1201 Elm Street, Dallas, Texas 75270. feldman.michael@epa.gov | Arkansas.
EPA Region 8: Adam Clark, Air Quality Planning Branch, EPA Region 8, 1595 Wynkoop Street, Denver, Colorado 80202. clark.adam@epa.gov | South Dakota.
EPA Region 9: Eugene Chen, Control Measures Section, Air and Radiation Division, EPA Region 9, 75 Hawthorne Street, San Francisco, California 94105. chen.eugene@epa.gov | California—San Joaquin Valley Air Pollution Control District (APCD).
EPA Region 10: Randall Ruddick, Air Planning Section, EPA Region 10, 1200 Sixth Avenue, Seattle, Washington 98101. ruddick.randall@epa.gov | Washington—Energy Facility Site Evaluation Council (EFSEC); Washington—Southwest Clean Air Agency (SWCAA).

II. Why is the EPA issuing this proposed rule?

The EPA is issuing both a proposed action and a direct final action to partially withdraw two previously issued Findings of Failure to Submit (FFS) to address EPA's 2015 findings of substantial inadequacy and “SIP calls” (“2015 SSM SIP Call”) ¹ for provisions applying to excess emissions during periods of SSM that were statutorily due no later than November 22, 2016. The EPA's previously issued FFS determinations were impacted by a court decision issued in March 2024 by the United States Court of Appeals District of Columbia Circuit (D.C. Circuit).² The first FFS that is being proposed for partial withdrawal is the January 22, 2022 national FFS issued to 12 States and local air pollution control agencies to respond to the above-referenced SIP call.³ The second FFS that is being proposed for partial withdrawal is the April 17, 2023 FFS issued to West Virginia for the same reasons.⁴ In total, the 13 States and/or local air agencies that were issued an FFS can be found in Table 1 of Section II of the direct final action.

¹ See “State Implementation Plans: Response to Petition for Rulemaking; Restatement and Update of EPA's SSM Policy Applicable to SIPs; Findings of Substantial Inadequacy; and SIP Calls To Amend Provisions Applying to Excess Emissions During Periods of Startup, Shutdown and Malfunction,” 80 FR 33840 (June 12, 2015).

² See Environ. Comm. Fl. Elec. Power v. EPA, 94 F.4th 77 (D.C. Cir. 2024).

³ See “Findings of Failure To Submit State Implementation Plan Revisions in Response to the 2015 Findings of Substantial Inadequacy and SIP Calls To Amend Provisions Applying To Excess Emissions During Periods of Startup, Shutdown, and Malfunction,” 87 FR 1680 (January 12, 2022).

⁴ See “West Virginia; Finding of Failure To Submit State Implementation Plan Revision in Response to the 2015 Findings of Substantial Inadequacy and SIP Calls To Amend Provisions Applying to Excess Emissions During Periods of Startup, Shutdown, and Malfunction,” 88 FR 23353 (April 17, 2023).

The EPA is taking direct final action with parallel proposal because we view the partial FFS withdrawals as administrative, noncontroversial, and anticipate no significant adverse comments. The EPA has identified the State and/or local air agency SIP provisions for which the partial FFS withdrawals are applicable to and explained our reasons for the withdrawal in the direct final action. At the same time, the EPA is proposing to make the same partial withdrawals. If no significant adverse comments are received on this proposed action, no further action will be taken on this proposal, and the direct final action will become effective as provided in that action. For further supplementary information and the rationale and consequences of this proposal, see the direct final action published in the Rules and Regulations section of this issue of the Federal Register.

III. Consequences of Withdrawn Portions of Findings of Failure To Submit and Remaining Air Agency Obligations

As further discussed in the direct final action, because certain SIP calls were vacated by the D.C. Circuit, the States and/or local air agencies with provisions to which those SIP calls previously applied no longer have an obligation to submit the revisions that the EPA had originally determined pursuant to the 2015 SSM SIP Call. As there is no longer a predicate submission obligation for those particular SIP-called provisions, the EPA's findings that such obligation were not met are no longer valid and must be withdrawn. The SIP provisions for which the EPA is proposing to withdraw the Agency's FFS can be found in Table 3 of Section III of the direct final action.

For those State and/or local jurisdiction SIP provisions listed in Table 3 of Section III of the direct final action for which the FFS are withdrawn, the CAA deadlines for the EPA to impose sanctions under CAA sections 179(a) and (b) and promulgate a FIP under CAA section 110(c) are no longer applicable. For those State and/or local jurisdiction SIP provisions in which the FFS are not withdrawn and are still applicable, the CAA deadlines for the EPA to impose sanctions under CAA sections 179(a) and (b) and promulgate a FIP under section 110(c) remain in effect as previously established.5 6 The States and/or local air agencies for which the FFS are not withdrawn and mandatory CAA deadlines remain in effect can be found in Table 4 Section IV of the direct final action.

⁵ See 87 FR 1680, 1682.

⁶ See 88 FR 88 FR 23353, 23354-23355.

IV. Statutory and Executive Order Reviews

Additional information about these statutes and Executive Orders (E.O.) can be found at https://www.epa.gov/laws-regulations/laws-and-executive-orders.

For a complete discussion of the administrative requirements applicable to this action, see the direct final action published in the Rules and Regulations section of this issue of the Federal Register.

List of Subjects in 40 CFR Part 52

Environmental protection, Administrative practice and procedures, Air pollution control, Approval and promulgation of implementation plans, Incorporation by reference, Intergovernmental relations, and Reporting and recordkeeping requirements.

Joseph Goffman,
Assistant Administrator.

[FR Doc. 2024-27262 Filed 11-25-24; 8:45 am]

BILLING CODE 6560-50-P